DEPARTMENT OF ENERGY

Federal Energy Regulatory Commission

Notice of Application Accepted for Filing and Soliciting Motions To Intervene and Protests

July 3, 2002.

Take notice that the following hydroelectric application has been filed with the Commission and is available for public inspection.

a. Type of Application: New License.

b. Project No.: 2574-032.

c. Date filed: April 29, 2002.

d. Applicant: FPL Energy Maine Hydro LLC.

e. Name of Project: Lockwood Hydroelectric Project.

f. Location: On the Kennebec River, in the city of Waterville and town of Winslow, Kennebec County, Maine. The project does not occupy any federal lands.

g. Filed Pursuant to: Federal Power Act, 16 U.S.C. 791 (a)-825(r).

h. Applicant Contact: Mr. F. Allen Wiley, P.E., Director of Business and Regulatory Affairs—Northeast Region, FPL Energy Maine Hydro LLC, 150 Main Street, Lewiston, Maine 04240.

i. FERC Contact: David Turner, e-mail address david.turner@ferc.gov, or telephone (202) 219-2844.

j. Deadline for filing motions to intervene and protests: 60 days from the issuance date of this notice.

All documents (original and eight copies) should be filed with: Magalie R. Salas, Secretary, Federal Energy Regulatory Commission, 888 First Street, NE., Washington, DC 20426. Comments and protests may be filed electronically via the internet in lieu of paper. See, 18 CFR 385.2001(a)(1)(iii) and the instructions on the Commission's web site at http://www.ferc.fed.us/efi/doorbell.htm.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, but is not ready for environmental analysis at this time. We do not anticipate the need for preparing a draft Environmental Assessment (EA) and intend to issue a single EA rather than issuing a draft and final EA. The EA will include our recommendations for operating procedures and environmental assessment measures that should be part of any license issued by the Commission. Staff intends to allow at least 30 days for entities to comment on the EA before final action is taken on the license application. All comments on the EA, filed with the Commission, will be considered in an order taking final action on the license application.

l. Description of the Project: The project consists of: (1) 1,035 feet of water retaining structures, including a 875-foot-long concrete gravity dam, two spillway sections, and 160-foot-long forebay headworks; (2) a 450-foot-long forebay canal; (3) an approximately 1,300-foot-long bypassed reach; (4) two powerhouses with a total installed capacity of 6,915 kW, and a hydraulic capacity of 5,660 cfs; (5) a project impoundment with a length of 1.2 miles and a surface area of 81.5 acres; and; (7) appurtenant facilities.

m. A copy of the application is available for inspection and reproduction at the Commission's Public Reference Room, located at 888 First Street, NE., Room 2-A, Washington, DC 20426, or by calling (202) 208-1371. This filing is available for review at the Commission or may be viewed on the Commission's web site at http://www.ferc.gov using the “RIMS” link, select “Docket #” and follow the instructions (call 202-208-2222 for assistance). A copy is also available for inspection and reproduction at the address in item h above.

n. Procedural schedule: The application will be processed according to the following Hydro Licensing Schedule. Revisions to the schedule will be made when the Commission determines it necessary to do so.

• Issue Acceptance Letter: July 2002

• Issue Scoping Document: July 2002

• Notice that Application Ready for Environmental Analysis: September 2002

• Notice of the availability of the Environmental Assessment: February 2003

• Ready for Commission decision on the application: April 2003.

o. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Magalie R. Salas,
Secretary.

[FR Doc. 02-17388 Filed 7-10-02; 8:45 am]

BILLING CODE 6717-01-P